DEPARTMENT OF TRANSPORTATION

Federal Aviation Administration

14 CFR Part 39

[Docket No. 98-NM-135-AD; Amendment 39-11919; AD 2000-20-08]

RIN 2120-AA64

Airworthiness Directives; McDonnell Douglas Model DC-8 Series Airplanes

AGENCY: Federal Aviation Administration, DOT.

ACTION: Final rule.

SUMMARY: This amendment adopts a new airworthiness directive (AD), applicable to certain McDonnell Douglas Model DC-8 series airplanes, that requires, for certain airplanes, inspection(s) to detect cracks of the doorjamb corners and follow-on actions. For certain other airplanes, this AD requires installation of a preventative modification; an inspection to detect cracks at the corners of the doorjambs of the passenger and service doors; and follow-on actions. This amendment is prompted by reports indicating that fatigue cracks were found in the fuselage skin and doublers at the corners of the doorjambs of the passenger and service doors. The actions specified by this AD are intended to detect and correct such fatigue cracking, which could result in rapid decompression of the fuselage and consequent reduced structural integrity of the airplane.

DATES: Effective November 13, 2000. The incorporation by reference of certain publications listed in the regulations is approved by the Director of the Federal Register as of November 13, 2000.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Greg DiLibero, Aerospace Engineer, Airframe Branch, ANM-120L, FAA, Los Angeles Aircraft Certification Office, 3960 Paramount Boulevard, Lakewood, California 90712-4137; telephone (562) 627-5231; fax (562) 627-5210.

SUPPLEMENTARY INFORMATION: A proposal to amend part 39 of the Federal Aviation Regulations (14 CFR part 39) to include an airworthiness directive (AD) that is applicable to certain McDonnell Douglas Model DC-8 series airplanes was published in the Federal Register on November 4, 1999 (64 FR 60134). For certain airplanes, that action proposed to require inspection(s) to detect cracks of the doorjamb corners and follow-on actions. For certain other airplanes, that AD also proposed to require installation of a preventative modification; an inspection to detect cracks at the corners of the doorjambs of the passenger and service doors; and follow-on actions.

Comments

Interested persons have been afforded an opportunity to participate in the making of this amendment. Due consideration has been given to the comments received.

Support for Proposed AD

One commenter supports the proposed AD.

Request to Revise a Certain Compliance Time

One commenter requests that paragraph (e) of the proposed AD be revised to include an inspection threshold that can be scheduled from the effective date of this AD. The commenter states that such a threshold would accommodate Group 4 airplanes that have unknown cycles accumulated since accomplishment of the modification.

The FAA does not concur. In developing an appropriate compliance time for this action, the FAA considered the safety implications and normal maintenance schedules for timely accomplishment of the inspection. In addition, the compliance time of “within 17,000 landings following accomplishment of the modification specified in the service bulletin” is based on a damage tolerance assessment of the affected structure. Because the reported cracking was caused by fatigue related stress (as discussed in the preamble of the proposed AD), the FAA finds that airplanes that have accumulated unknown hours on the modification must be inspected at the earliest possible time to ensure no cracks have initiated since installation of the modification, which may have been accomplished more than 17,000 flight hours ago. In consideration of these items, the FAA has determined that 17,000 landings following accomplishment of the modification specified in the service bulletin represents an appropriate interval of time allowable wherein the inspection can be accomplished during scheduled maintenance intervals for the majority of affected operators, and an acceptable level of safety can be maintained. However, under the provisions of paragraph (g) of the final rule, the FAA may approve requests for adjustments to the compliance time if data are submitted to substantiate that such an adjustment would provide an acceptable level of safety.

Conclusion

After careful review of the available data, including the comments noted above, the FAA has determined that air safety and the public interest require the adoption of the rule as proposed.

Cost Impact

There are approximately 294 Model DC-8 series airplanes of the affected design in the worldwide fleet. The FAA estimates that 251 airplanes of U.S. registry will be affected by this AD.

Should an operator be required to accomplish the inspection(s), it will take 48 (Group 1 airplanes) and 74 (all other groups of airplanes) work hours per airplane to accomplish, at an average labor rate of $60 per work hour. Based on these figures, the cost impact of the inspection(s) required by this AD on U.S. operators is estimated to be $2,880 (Group 1 airplanes) and $4,440 (all other groups of airplanes) per airplane, per inspection cycle.

Should an operator be required or elect to accomplish the preventative modification, it will take approximately 1,440 work hours per airplane to accomplish, at an average labor rate of $60 per work hour. Required parts will cost approximately $2,000 per airplane. Based on these figures, the cost impact of the preventative modification by this AD on U.S. operators is estimated to be $88,400 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-20-08 McDonnell Douglas: Amendment 39-11919. Docket 98-NM-135-AD.

Applicability: Model DC-8 series airplanes, as listed in McDonnell Douglas Service Bulletin DC8-53-075, dated August 17, 1995; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To detect and correct fatigue cracking in the fuselage skin and doublers at the corners of the doorjambs of the passenger and service doors, which could result in rapid decompression of the fuselage and consequent reduced structural integrity of the airplane, accomplish the following:

Note 2: Where there are differences between the service bulletin and the AD, the AD prevails.

Note 3: The words “repair” and “modify/modification” in this AD and in the referenced service bulletin are used interchangeably.

Note 4: This AD is related to AD 93-01-15, amendment 39-8469, and will affect Principal Structural Elements (PSE) 53.08.038, 53.08.039, 53.08.040, and 53.08.041 of the DC-8 Supplemental Inspection Document (SID), Report L26-011, Volume I, Revision 3, dated March 1991.

Group 1 Airplanes: Initial Inspection and Follow-on or Corrective Actions

(a) For airplanes identified as Group 1 in McDonnell Douglas Service Bulletin DC8-53-075, dated August 17, 1995: Within 2,000 landings or 3 years after the effective date of this AD, whichever occurs first, perform the applicable inspection(s) to detect cracks of the doorjamb corners in accordance with the service bulletin.

(1) If no crack is detected during any inspection required by paragraph (a) of this AD, repeat the applicable inspection(s) required by paragraph (a) of this AD thereafter at intervals specified for Group 1 airplanes in paragraph 1.E. of the service bulletin; or accomplish the preventative modification in accordance with the service bulletin. Accomplishment of the preventative modification constitutes terminating action for the repetitive inspection requirements of this paragraph.

(2) If any crack is detected during any inspection required by paragraph (a) of this AD, prior to further flight, repair in accordance with the service bulletin, except as provided by paragraph (f) of this AD.

Group 1 Airplanes: Actions Following Accomplishment of Preventative Modification or Repair

(b) Within 17,000 landings following accomplishment of the modification/repair required by either paragraph (a)(1) or (a)(2) of this AD, perform an inspection to detect cracks of the doorjamb corners, in accordance with McDonnell Douglas Service Bulletin DC8-53-075, dated August 17, 1995.

(1) If no crack is detected, repeat the inspection thereafter at intervals not to exceed 4,400 landings.

(2) If any crack is detected, prior to further flight, repair in accordance with the service bulletin, except as provided by paragraph (f) of this AD.

Group 2 Airplanes: Preventative Modification, Inspection(s), and Repair, If Necessary

(c) For airplanes identified as Group 2 in McDonnell Douglas Service Bulletin DC8-53-075, dated August 17, 1995: Within 2,000 landings or 3 years after the effective date of this AD, whichever occurs first, accomplish the preventative modification in accordance with the service bulletin. Within 17,000 landings following accomplishment of the preventative modification, perform an inspection to detect cracks of the doorjamb corners, in accordance with the service bulletin.

(1) If no crack is detected during any inspection required by paragraph (c) of this AD, repeat the inspection thereafter at intervals not to exceed 4,400 landings.

(2) If any crack is detected during any inspection required by paragraph (c) of this AD, prior to further flight, repair it in accordance the service bulletin, except as provided by paragraph (f) of this AD.

Group 3 Airplanes: Revision of Maintenance or Inspection Program

(d) For airplanes identified as Group 3 in McDonnell Douglas Service Bulletin DC8-53-075, dated August 17, 1995: Within 6 years following accomplishment of the permanent repair or within 3 years after the effective date of this AD, whichever occurs later, revise the FAA-approved maintenance or inspection program to include an inspection program for the doorjamb corners identified in the service bulletin. The new inspection program shall be approved by the Manager, Los Angeles Aircraft Certification Office (ACO), FAA.

Note 5: Requests for approval of inspection procedures of the permanent repairs that are proposed for inclusion in the FAA-approved maintenance or inspection program, as required by this AD, should include a damage tolerance assessment.

Group 4 Airplanes: Inspection(s) and Repair, If Necessary

(e) For airplanes identified as Group 4 in McDonnell Douglas Service Bulletin DC8-53-075, dated August 17, 1995: Within 17,000 landings following accomplishment of the modification specified in the service bulletin, perform an inspection to detect cracks of the doorjamb corners, in accordance with the service bulletin.

(1) If no crack is detected during any inspection required paragraph (e) of this AD, repeat the inspection thereafter at intervals not to exceed 4,400 landings.

(2) If any crack is detected during any inspection required by paragraph (e) of this AD, prior to further flight, repair in accordance with the service bulletin, except as provided by paragraph (f) of this AD.

Exception to Procedures Specified in the Referenced Service Bulletin

(f) Where McDonnell Douglas Service Bulletin DC8-53-075, dated August 17, 1995, specifies that the manufacturer may be contacted for disposition of certain repair conditions, this AD requires the repair of those conditions to be accomplished in accordance with a method approved by the Manager, Los Angeles ACO.

Alternative Methods of Compliance

(g) An alternative method of compliance or adjustment of the compliance time that provides an acceptable level of safety may be used if approved by the Manager, Los Angeles ACO. Operators shall submit their requests through an appropriate FAA Principal Maintenance Inspector, who may add comments and then send it to the Manager, Los Angeles ACO.

Note 6: Information concerning the existence of approved alternative methods of compliance with this AD, if any, may be obtained from the Los Angeles ACO.

Special Flight Permits

(h) Special flight permits may be issued in accordance with §§ 21.197 and 21.199 of the Federal Aviation Regulations (14 CFR 21.197 and 21.199) to operate the airplane to a location where the requirements of this AD can be accomplished.

Incorporation by Reference

(i) Except as provided by paragraphs (d) and (f) of this AD, the actions shall be done in accordance with McDonnell Douglas Service Bulletin DC8-53-075, dated August 17, 1995. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(j) This amendment becomes effective on November 13, 2000.

Issued in Renton, Washington, on September 28, 2000.
Donald L. Riggin,
Acting Manager, Transport Airplane Directorate, Aircraft Certification Service.

[FR Doc. 00-25432 Filed 10-5-00; 8:45 am]

BILLING CODE 4910-13-U